NATIONAL AERONAUTICS AND SPACE ADMINISTRATION

[Notice (08-073)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Edward K. Fein, Patent Counsel, Johnson Space Center, Mail Code AL, Houston, TX 77058-8452; telephone (281) 483-4871; fax (281) 483-6936.

NASA Case No. MSC-22939-4: Externally Triggered Microcapsules;

NASA Case No. MSC-24343-1: Cryogenic Transport of High Pressure System Recharge Gas.

Dated: October 3, 2008.
Michael C. Wholley,
General Counsel.

[FR Doc. E8-24061 Filed 10-8-08; 8:45 am]

BILLING CODE 7510-13-P